DEPARTMENT OF TRANSPORTATION

Federal Aviation Administration

Noise Exposure Map Notice; Receipt of Noise Compatibility Program and Request for Review: Jackson Hole Airport, Jackson, WY

AGENCY: Federal Aviation Administration (FAA), DOT.

ACTION: Noise Exposure Map notice and receipt of Noise Compatibility Program and request for review.

SUMMARY: The Federal Aviation Administration (FAA) announces its determination that the Noise Exposure Maps submitted by the Jackson Hole Airport Board for the Jackson Hole Airport in Jackson, Wyoming, under the provisions of the Aviation Safety and Noise Abatement Act and FAA's ensuing regulations, are in compliance with applicable requirements. The FAA also announces that it is reviewing a proposed Noise Compatibility Program that was submitted for the Jackson Hole Airport under FAA's regulations in conjunction with the Noise Exposure Maps, and that this program will be approved or disapproved on or before September 19, 2018.

DATES: The applicability date of the FAA's determination on the Noise Exposure Maps and of the start of its review of the associated Noise Compatibility Program is March 23, 2018. The public comment period ends May 22, 2018.

FOR FURTHER INFORMATION CONTACT: Ms. Kandice Krull at the Federal Aviation Administration, Denver Airports District Office, 26805 E 68th Ave, Suite 224, Denver, Colorado 80249-6361, Telephone 303-342-1261, Email kandice.krull@faa.gov.

SUPPLEMENTARY INFORMATION: This notice announces that the FAA finds that the Noise Exposure Maps submitted for the Jackson Hole Airport are in compliance with applicable requirements of Title 14 Code of Federal Regulations (CFR) part 150, applicable March 23, 2018. Furthermore, FAA is reviewing a proposed Noise Compatibility Program for the Jackson Hole Airport that which be approved or disapproved on or before September 19, 2018. This notice also announces the availability of this Program for public review and comment.

Under 49 U.S.C., section 47503, Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested parties in the local community, government agencies, and persons using the airport.

An airport operator who has submitted Noise Exposure Maps that are found by FAA to be in compliance with the requirements of part 150, promulgated pursuant to the Act, may submit a Noise Compatibility Program for FAA approval which sets forth the measures the operator has taken or proposes to take to reduce existing non-compatible uses and prevent the introduction of additional non-compatible uses.

The Jackson Hole Airport Board submitted to the FAA on March 21, 2018 Noise Exposure Maps, descriptions and other documentation that were produced during the Jackson Hole Airport part 150 Study conducted between September 9, 2013 and March 21, 2018. It was requested that the FAA review this material as the Noise Exposure Maps, as described in section 47503 of the Act, and that the noise mitigation measures, to be implemented jointly by the airport and surrounding communities, be approved as a Noise Compatibility Program under section 47504 of the Act.

The FAA has completed its review of the Noise Exposure Maps and accompanying documentation submitted by the Jackson Airport Board. The documentation that constitutes the “Noise Exposure Maps” as defined in CFR part 150 section 150.7 includes: Jackson Hole Airport 14 CFR part 150 Study Update, Updated Noise Exposure Maps, Figure 1-3 Airport Layout, Figure 1-7 Noise Monitor Sites, Figure 1-8 Generalized Existing Zoning, Figure 4-3 Modeled South Flow Flight Tracks, Figure 4-4 Modeled North Flight Tracks, Figure 4-7 2014 Noise Exposure Map on Existing Land Use, and Figure 9-1 2020 Noise Exposure Map on Future Land Use. The FAA has determined that these Noise Exposure Maps and accompanying documentation are in compliance with applicable requirements. This determination is applicable on March 23, 2018.

The FAA's determination on an airport operator's Noise Exposure Maps is limited to a finding that the maps were developed in accordance with the procedures contained in Appendix A of CFR part 150. Such determination does not constitute approval of the airport operator's data, information or plans, or a commitment to approve a Noise Compatibility Program or to fund implementation of that Program. If questions arise concerning the precise relationship of specific properties to noise exposure contours depicted on a Noise Exposure Map submitted under section 47503 of the Act, it should be noted that the FAA is not involved in any way in determining the relative locations of specific properties with regard to the depicted noise exposure contours, or in interpreting the Noise Exposure Maps to resolve questions concerning, for example, which properties should be covered by the provisions of section 47506 of the Act. These functions are inseparable from the ultimate land use control and planning responsibilities of local government. These local responsibilities are not changed in any way under part 150 or through FAA's review of Noise Exposure Maps. Therefore, the responsibility for the detailed overlaying of noise exposure contours onto the map depicting properties on the surface rests exclusively with the airport operator that submitted those maps, or those public agencies and planning agencies with which consultation is required under section 47503 of the Act. The FAA has relied on the certification by the airport operator, under section 150.21 of part 150, that the statutorily required consultation has been accomplished.

The FAA has formally received the Noise Compatibility Program for the Jackson Hole Airport, also effective on March 23, 2018. Preliminary review of the submitted material indicates that it conforms to the requirements for the submittal of Noise Compatibility Programs, but that further review will be necessary prior to approval or disapproval of the program. The formal review period, limited by law to a maximum of 180 days, will be completed on or before September 19, 2018.

The FAA's detailed evaluation will be conducted under the provisions of part 150, section 150.33. The primary considerations in the evaluation process are whether the proposed measures may reduce the level of aviation safety, create an undue burden on interstate or foreign commerce, or be reasonably consistent with obtaining the goal of reducing existing non-compatible land uses and preventing the introduction of additional non-compatible land uses. Interested persons are invited to comment on the proposed program with specific reference to these factors. All comments, other than those properly addressed to local land use authorities, will be considered by the FAA to the extent practicable.

Copies of the full Noise Exposure Map documentation and the proposed Noise Compatibility Program are available for examination at the following locations: www.Jac150study.com.

Federal Aviation Administration, Denver Airports District Office, 26805 E 68th Ave, Suite 224, Denver, CO 80249, 303-342-1254

Jackson Hole Airport, 1250 E Airport Rd, Jackson, WY 83001, 307-733-5454

Questions may be directed to the individual named above under the heading, FOR FURTHER INFORMATION CONTACT.

Issued in Renton, Washington, on March 23, 2018.
Randall S. Fiertz,
Director, Airports Division, Northwest Mountain Region.

[FR Doc. 2018-06407 Filed 4-4-18; 8:45 am]

BILLING CODE 4910-13-P